ENVIRONMENTAL PROTECTION AGENCY

40 CFR Part 52

[EPA-R05-OAR-2014-0119; FRL-9912-19-Region-5]

Approval and Promulgation of Air Quality Implementation Plans; Illinois; Latham Pool Adjusted Standard

AGENCY: Environmental Protection Agency (EPA).

ACTION: Direct final rule.

SUMMARY: The Environmental Protection Agency (EPA) is approving a request submitted by the Illinois Environmental Protection Agency on January 8, 2014, to revise the Illinois State Implementation Plan (SIP) for volatile organic matter (VOM). The approval revises the Illinois SIP by substituting a new party as the holder of the adjusted standard for VOM granted to Royal Fiberglass Pools, Inc. (Royal), for the facility located in Dix, Illinois. EPA approved the adjusted standard for Royal on June 27, 2011. Due to a change in ownership, the facility is now owned by Latham Pool Products, Inc., d/b/a Viking Pools. The revision amends the adjusted standard for VOM currently approved in the SIP for the facility to reflect the change in ownership. This revision does not change any of the VOM control requirements and will not result in an increase in VOM emissions at the facility.

DATES: This direct final rule is effective August 13, 2014, unless EPA receives adverse comments by August 13, 2014. If adverse comments are received, EPA will publish a timely withdrawal of the direct final rule in the Federal Register informing the public that the rule will not take effect.

ADDRESSES: Submit your comments, identified by Docket ID No. EPA-R05-OAR-2014-0119, by one of the following methods:

1. www.regulations.gov: Follow the on-line instructions for submitting comments.

2. Email: blakley.pamela@epa.gov.

3. Fax: (312) 629-2054.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2014-0119. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Carolyn Persoon, Environmental Engineer, at (312) 353-8290 before visiting the Region 5 office.

FOR FURTHER INFORMATION CONTACT: Carolyn Persoon, Environmental Engineer, Control Strategies Section, Air Programs Branch (AR-18J), U.S. Environmental Protection Agency, Region 5, 77 West Jackson Boulevard, Chicago, Illinois 60604, (312) 353-8290, persoon.carolyn@epa.gov.

SUPPLEMENTARY INFORMATION: Throughout this document whenever “we,” “us,” or “our” is used, we mean EPA. This supplementary information section is arranged as follows:

I. General Information

II. What revision did the State request be incorporated into the SIP?

III. What action is EPA taking?

IV. Statutory and Executive Order Reviews

I. General Information

A. Does this action apply to me?

This action applies only to the adjusted standard for VOM granted to Royal for the facility in Dix, Illinois (Jefferson County). This action is only a name change to reflect that the facility is now owned by Latham Pool Products, Inc., d/b/a Viking Pools. No increases in emissions at the facility are allowed by this action.

B. Has public notice been provided?

The Illinois Pollution Control Board (IPCB) granted the administrative change at a quarterly meeting which was open to the public. Prior to the meeting, public notice was given that the meeting was being held and an agenda with actions to be considered was posted on the IPCB Web site. Public notice of the administrative change was posted on the Web site and the subsequent board meeting open to the public was held on September 5, 2013, prior to the administrative order going into effect.

C. What is the background to this action?

Latham Pool Products, Inc., d/b/a Viking Pools, owns and operates a fiberglass pool manufacturing facility in the city of Dix, Illinois that was formerly owned and operated by Royal. The facility is used to manufacture fiberglass pools and emits VOM.

EPA approved the adjusted standard into the Illinois SIP on June 27, 2011 (76 FR 37272). The adjusted standard removed the 8 lb/hr VOM limit for Royal's fiberglass facility in Dix, Illinois. Although Royal was not required to comply with the 8 lb/hr rule, Royal was required to operate its facility in compliance with the National Emissions Standards for Hazardous Air Pollutants (NESHAP) for Reinforced Plastic Composites Production at 40 CFR part 63, subpart WWWW.

EPA is approving this name change as solely an administrative change, which does not allow for any change in the emission limits for VOM, work practice standards or any other requirements in the NESHAP at 40 CFR part 63, subpart WWWW, or any other applicable Federal, state and local laws, regulations and permits.

II. What revision did the State request be incorporated into the SIP?

To reflect the change in ownership, the state has requested that EPA replace the name of the holder of the adjusted standard currently in the Illinois SIP from Royal to Latham Pool Products, Inc., d/b/a Viking Pools.

III. What action is EPA taking?

EPA is approving a revision to the Illinois SIP to substitute Latham Pool Products, Inc., d/b/a Viking Pools, as the holder of the adjusted standard for VOM that EPA previously approved into the SIP for Royal. This revision does not change any of the VOM control requirements and will not result in an increase in VOM emissions because no emission limits were increased.

We are publishing this action without prior proposal because we view this as a noncontroversial amendment and anticipate no adverse comments. However, in the proposed rules section of this Federal Register publication, we are publishing a separate document that will serve as the proposal to approve the state plan if relevant adverse written comments are filed. This rule will be effective September 12, 2014 without further notice unless we receive relevant adverse written comments by September 12, 2014. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective September 12, 2014.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 12, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Reporting and recordkeeping requirements, Sulfur dioxide.

Dated: May 30, 2014.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

Subpart O—Illinois

2. Section 52.720 is amended by adding paragraph (c)(199) to read as follows:

§ 52.720 Identification of plan.

* * * * *

(c) * * *

(199) On January 8, 2014, the Illinois Environmental Protection Agency submitted a revision to its state implementation plan. The revision to the SIP substitutes Latham Pool Products, d/b/a Viking Pools, for Royal Fiberglass Pools, Inc. as the holder of the adjusted standard to the general rule, Use of Organic Material Rule, known as the eight pound per hour (8 lb/hr) rule, for volatile organic matter that was granted to Royal Fiberglass Pools, Inc. manufacturing facility located in Dix, Illinois on February 18, 2010 by the Illinois Pollution Control Board. The adjusted standard affected by the name change provides that 35 Ill. Adm. Code 215.301 does not apply to VOM emissions from Viking Pools fiberglass pool manufacturing facility in Dix, Illinois. The facility is subject to emission limit requirements set forth in the National Emissions Standards for Hazardous Air Pollutants for Reinforced Plastic Composites Production at 40 CFR 63, subpart WWWW, April 21, 2003.

(i) Incorporation by reference.

(A) Supplemental Opinion and Order of the Illinois Pollution Control Board, AS 09-4, effective September 5, 2013.

[FR Doc. 2014-16290 Filed 7-11-14; 8:45 am]

BILLING CODE 6560-50-P